DEPARTMENT OF THE INTERIOR

Fish and Wildlife Service

Information Collection Renewal Submitted to the Office of Management and Budget (OMB) for Approval Under the Paperwork Reduction Act; 1018-0117; State Certification of Expenditures, Public Law 106-408

AGENCY: Fish and Wildlife Service, Interior.

ACTION: Notice; Request for comments.

SUMMARY: We (Fish and Wildlife Service) have submitted to OMB a request to renew approval for information collection associated with FWS Form 3-2197a (State Certification of Expenditures). We will use the information that we collect to determine if the States properly expended the funds they received under the Pittman-Robertson Wildlife Restoration Act (16 U.S.C. 669 et seq.) and the Dingell-Johnson Sport Fish Restoration Act (16 U.S.C. 777 et seq.). As used in this notice, the term “States” includes the 50 States, Commonwealth of Puerto Rico, District of Columbia, Commonwealth of the Northern Mariana Islands, Guam, U.S. Virgin Islands, and American Samoa.

DATES: You must submit comments on or before June 23, 2005.

ADDRESSES: Send your comments and suggestions on this information collection renewal to the Desk Officer for the Department of the Interior at OMB-OIRA at (202) 395-6566 (fax) or at OIRA_DOCKET@OMB.eop.gov (e-mail). Please provide a copy of your comments to Hope Grey, Information Collection Clearance Officer, Fish and Wildlife Service, 4401 N. Fairfax Drive, MS 222-ARLSQ, Arlington, VA 22203 (mail); (703) 358-2269 (fax); or hope_grey@fws.gov (e-mail).

FOR FURTHER INFORMATION CONTACT: To request a copy of the information collection requirements, explanatory information, or related form, contact Hope Grey at the addresses above or by telephone at (703) 358-2482.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). Currently, we have approval from OMB to collect information related to FWS Form 3-2197a under OMB control number 1018-0117. This approval expires on May 31, 2005. We have sent a request to OMB to renew approval for this information collection, and we are requesting a 3-year term of approval. Federal agencies may not conduct or sponsor and a person is not required to respond to a collection of information unless it displays a currently valid OMB control number. OMB has up to 60 days to approve or disapprove our information collection request, but may respond after 30 days. Therefore, to ensure that your comments receive consideration, send all comments and suggestions to OMB by the date listed in the DATES section.

On February 3, 2005, we published in the Federal Register (70 FR 5692) a notice of our intent to request that OMB renew authority for this information collection. In that notice, we solicited public comments for 60 days, ending April 4, 2005. We received one comment during that period. The commenter opposed the information collection as a waste of taxpayer dollars and also requested a copy of the last report for this information collection. We have noted the concern and have provided the commenter with a copy of the last report to Congress.

Section 133(d)(1) of Public Law 106-408 requires that States that received funds apportioned under the Pittman-Robertson Wildlife Restoration Act or the Dingell-Johnson Sport Fish Restoration Act during the fiscal year must certify their expenditures to the Secretary of the Interior in writing. Within 60 days after the close of each fiscal year, State fish and wildlife agencies use FWS Form 3-2197a to certify that they have properly expended the funds granted to them under the above Acts. The Secretary then transmits the signed forms to Congress by December 31 of each year.

Title: State Certification of Expenditures, Public Law 106-408.

OMB Control Number: 1018-0117.

Frequency of Collection: Annually.

Description of Respondents: States, Commonwealth of Puerto Rico, District of Columbia, Commonwealth of the Northern Mariana Islands, Guam, U.S. Virgin Islands, and American Samoa.

Annual Burden Estimates: 28 hours per year (56 respondents at 1/2 hour each).

Your comments are invited on: (1) Whether or not the collection of information is necessary for the proper performance of the functions of the agency, including whether or not the information will have practical utility; (2) the accuracy of the agency's estimates of burden utility, and clarity of the information to be collected; and (4) ways to minimize the burden of collection of information on respondents, including through the use of appropriate automated, electronic, mechanical, or other technological collection techniques or other forms of information technology.

Dated: April 18, 2005.
Hope Grey,
Information Collection Clearance Officer, Fish and Wildlife Service.

[FR Doc. 05-10310 Filed 5-23-05; 8:45 am]

BILLING CODE 4310-55-P